DEPARTMENT OF THE TREASURY

United States Mint

Pricing for New Product—America the Beautiful Quarters® Three-Roll Set

AGENCY: United States Mint, Department of the Treasury.

ACTION: Notice.

SUMMARY: The United States Mint is announcing pricing for a new product, the America the Beautiful Quarters Three-Roll Set. This product will be priced at $46.95.

FOR FURTHER INFORMATION CONTACT: Marc Landry, Acting Associate Director for Sales and Marketing; United States Mint; 801 9th Street NW., Washington, DC 20220; or call 202-354-7500.

Authority: 31 U.S.C. 5111, 5112 & 9701.

Dated: January 16, 2013.
Richard A. Peterson,
Acting Director.

[FR Doc. 2013-01313 Filed 1-23-13; 8:45 am]

BILLING CODE 4810-37-P